DEPARTMENT OF ENERGY

Federal Energy Regulatory Commission

[Project No. 15395-000]

Low Head Hydro M 13 LLC.; Notice of Preliminary Permit Application Accepted for Filing and Soliciting Comments, Motions To Intervene, and Competing Applications

On February 10, 2025, Low Head Hydro M 13, LLC. filed an application for a preliminary permit, pursuant to section 4(f) of the Federal Power Act, proposing to study the feasibility of a hydropower project proposed to be located at the U.S. Army Corps of Engineers' (Corps) Mississippi River Lock and Dam 13 in Clinton County, IA, and Whiteside County, IL. The sole purpose of a preliminary permit, if issued, is to grant the permit holder priority to file a license application during the permit term. A preliminary permit does not authorize the permit holder to perform any land-disturbing activities or otherwise enter upon lands or waters owned by others without the owners' express permission.

The proposed Mississippi River Lock and Dam 13 Hydroelectric Project would consist of the following: (1) a proposed 300-foot by 200-foot masonry powerhouse located in alignment with the existing Corps' dam, containing three proposed Kaplan bulb or Kaplan pit turbines with a total capacity of 19.05 megawatts; (2) a proposed intake channel of unlined earthen excavation approximately 500 feet long and 200 feet wide, located upstream of the turbine bays and including a 200-foot-long guide wall along the western side of the channel; (3) a proposed 850-foot-long and 500-foot-wide tailrace area of unlined earthen excavation, including a 1,850-foot-long guide wall along the western side of the channel and 520-foot-long guide wall along the eastern side of the channel; (4) a proposed 85-foot-long by 60-foot-wide low profile project substation located downstream from the powerhouse containing a single pad mounted three-phase step-up transformer with a rating between 15 to 25 megawatt-ampere and ancillary equipment; (5) a proposed 4,700-foot-long access road adjacent; (6) an existing dam bridge improved and extended to provide access to the powerhouse along with a proposed public park and parking area adjacent to the new access road; and (7) a proposed 3,400-foot-long, 13.9 to 69-kilovolt (kv) underground transmission line to the project substation and a proposed 4.6 mile, 69-kv transmission line from the substation to the existing 161-kv ITC Midwest Beaver Island substation. The proposed project would have an estimated annual generation of 94,500 megawatt-hours.

Applicant Contact: Allen W. Skelly, Low Head Hydro M 13, LLC., 127 Longwood Blvd., Mount Orab, Ohio 45154; phone: (937) 802-8866.

FERC Contact: Shivani Khetani; phone: (212) 273-5917, or by email at shivani.khetani@ferc.gov.

Deadline for filing comments, motions to intervene, competing applications (without notices of intent), or notices of intent to file competing applications: 60 days from the issuance of this notice. Competing applications and notices of intent must meet the requirements of 18 CFR 4.36.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

The Commission strongly encourages electronic filing. Please file comments, motions to intervene, notices of intent, and competing applications using the Commission's eFiling system at https://ferconline.ferc.gov/eFiling.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. The first page of any filing should include docket number P-15395-000.

More information about this project, including a copy of the application, can be viewed or printed on the “eLibrary” link of the Commission's website at https://elibrary.ferc.gov/eLibrary/search. Enter the docket number (P-15395) in the docket number field to access the document. For assistance, contact FERC Online Support.

Dated: February 25, 2025.
Debbie-Anne A. Reese,
Secretary.

[FR Doc. 2025-03426 Filed 3-3-25; 8:45 am]

BILLING CODE 6717-01-P